DEPARTMENT OF ENERGY

Federal Energy Regulatory Commission

Combined Notice of Filings #1

Take notice that the Commission received the following electric corporate filings:

Docket Numbers: EC15-66-000.

Applicants: Osage Wind, LLC.

Description: Supplement to January 29, 2015 Application for Authorization Under Section 203 of the Federal Power Act, Request for Expedited Consideration and Confidential Treatment of Osage Wind, LLC.

Filed Date: 4/27/15.

Accession Number: 20150427-5553.

Comments Due: 5 p.m. ET 5/7/15.

Docket Numbers: EC15-130-000.

Applicants: CPV Maryland, LLC, MC St. Charles LLC, OG St. Charles LLC, Osaka Gas USA Corporation.

Description: Application for Authorization under Section 203 of the Federal Power Act and Request for Waivers, Request for Confidential Treatment, and Request for Expedited Consideration of CPV Maryland, LLC, et. al.

Filed Date: 4/27/15.

Accession Number: 20150427-5551.

Comments Due: 5 p.m. ET 5/18/15.

Take notice that the Commission received the following exempt wholesale generator filings:

Docket Numbers: EG15-77-000.

Applicants: Logan's Gap Wind LLC.

Description: Notice of Self-Certification of Exempt Wholesale Generator Status of Logan?s Gap Wind LLC.

Filed Date: 4/28/15.

Accession Number: 20150428-5202.

Comments Due: 5 p.m. ET 5/19/15.

Docket Numbers: EG15-78-000.

Applicants: Fowler Ridge IV Wind Farm LLC.

Description: Notice of Self-Certification of Exempt Wholesale Generator Status of Fowler Ridge IV Wind Farm LLC.

Filed Date: 4/28/15.

Accession Number: 20150428-5420.

Comments Due: 5 p.m. ET 5/19/15.

Take notice that the Commission received the following electric rate filings:

Docket Numbers: ER10-1511-006; ER10-2231-005; ER10-1714-006; ER10-3247-009; ER10-2010-004; ER10-1959-003; ER10-2007-003; ER10-2013-003; ER12-1780-002; ER10-2015-003; ER10-2017-003; ER10-2021-003; ER10-2011-008; ER10-2019-004; ER10-2018-003; ER10-2020-002.

Applicants: Electric Energy Inc., Kentucky Utilities Company, LG&E Energy Marketing Inc., Lower Mount Bethel Energy, LLC, PPL Brunner Island, LLC, PPL Electric Utilities Corporation, PPL EnergyPlus LLC, PPL Holtwood LLC, PPL Ironwood, LLC, PPL Martins Creek, LLC, PPL Montour, LLC, PPL New Jersey Biogas, LLC., PPL New Jersey Solar, LLC, PPL Renewable Energy, LLC, PPL Susquehanna, LLC, Louisville Gas & Electric Company, Electric Energy, Inc.

Description: Notice of Non-Material Change in Status of the PPL Companies.

Filed Date: 4/27/15.

Accession Number: 20150427-5558.

Comments Due: 5 p.m. ET 5/18/15.

Docket Numbers: ER14-2840-002.

Applicants: NextEra Energy Services Massachusetts, LLC.

Description: Compliance filing per 35: NextEra Energy Services Massachussetts, LLC Amend to Order No. 784 Compliance to be effective 9/11/2014.

Filed Date: 4/27/15.

Accession Number: 20150427-5407.

Comments Due: 5 p.m. ET 5/18/15.

Docket Numbers: ER15-883-002.

Applicants: Southern California Edison Company.

Description: Tariff Amendment per 35.17(b): Second Amended GIA Distrib Serv Agmt San Gorgonio Weswinds II, Difwind Farms to be effective 12/31/9998.

Filed Date: 4/28/15.

Accession Number: 20150428-5332.

Comments Due: 5 p.m. ET 5/19/15.

Docket Numbers: ER15-1136-001.

Applicants: Big Cajun I Peaking Power LLC.

Description: Tariff Amendment per 35.17(b): Revised Rate Schedule and Request for Shortened Notice Period & Expedited Action to be effective 6/1/2015.

Filed Date: 4/28/15.

Accession Number: 20150428-5348.

Comments Due: 5 p.m. ET 5/19/15.

Docket Numbers: ER15-1568-000.

Applicants: Southwest Power Pool, Inc.

Description: § 205(d) rate filing per 35.13(a)(2)(iii): 2900R2 KMEA NITSA NOA and Cancellation of Westar NITSA NOA SA 2166R3 to be effective 4/1/2015.

Filed Date: 4/27/15.

Accession Number: 20150427-5414.

Comments Due: 5 p.m. ET 5/18/15.

Docket Numbers: ER15-1569-000.

Applicants: PJM Interconnection, L.L.C.

Description: § 205(d) rate filing per 35.13(a)(2)(iii): Second Revised Service Agreement No. 2390 (Z1-089) to be effective 3/25/2015.

Filed Date: 4/23/15.

Accession Number: 20150423-5286.

Comments Due: 5 p.m. ET 5/14/15.

Docket Numbers: ER15-1570-000.

Applicants: Deseret Generation & Transmission Co-operative, Inc.

Description: Compliance filing per 35: 2015 RIA Annual Update to be effective 1/1/2015.

Filed Date: 4/28/15.

Accession Number: 20150428-5163.

Comments Due: 5 p.m. ET 5/19/15.

Docket Numbers: ER15-1571-000.

Applicants: Midcontinent Independent System Operator, Inc.

Description: § 205(d) rate filing per 35.13(a)(2)(iii): 2015-04-28 NCA BCA RSG Mitigation Filing to be effective 6/30/2015.

Filed Date: 4/28/15.

Accession Number: 20150428-5165.

Comments Due: 5 p.m. ET 5/19/15.

Docket Numbers: ER15-1572-000.

Applicants: Southwest Power Pool, Inc.

Description: Notice of Cancellation of Large Generator Interconnection Agreement of Southwest Power Pool, Inc.

Filed Date: 4/28/15.

Accession Number: 20150428-5178.

Comments Due: 5 p.m. ET 5/19/15.

Docket Numbers: ER15-1573-000

Applicants: Unitil Power Corp.

Description: Unitil Power Corp submits Statement of all billing transactions under the Amended Unitil System Agreement for the period January 1, 2014 to December 31, 2014.

Filed Date: 4/28/15.

Accession Number: 20150428-5223.

Comments Due: 5 p.m. ET 5/19/15.

Docket Numbers: ER15-1574-000.

Applicants: Town Square Energy East, LLC.

Description: § 205(d) rate filing per 35.13(a)(2)(iii): Notice of Succession to be effective 4/2/2015.

Filed Date: 4/28/15.

Accession Number: 20150428-5238.

Comments Due: 5 p.m. ET 5/19/15.

Docket Numbers: ER15-1575-000.

Applicants: Northern States Power Company, a Minnesota corporation, Northern States Power Company, a Wisconsin corporation.

Description: § 205(d) rate filing per 35.13(a)(2)(iii): 2015_InterchangeAgreement to be effective 1/1/2015.

Filed Date: 4/28/15.

Accession Number: 20150428-5264.

Comments Due: 5 p.m. ET 5/19/15.

Docket Numbers: ER15-1576-000.

Applicants: Constellation Power Source Generation, LLC.

Description: Tariff Withdrawal per 35.15: Notice of Cancellation to be effective 1/31/2015.

Filed Date: 4/28/15.

Accession Number: 20150428-5426.

Comments Due: 5 p.m. ET 5/19/15.

Docket Numbers: ER15-1577-000.

Applicants: New York State Electric & Gas Corporation.

Description: § 205(d) rate filing per 35.13(a)(2)(iii): Engineering and Procurement Agreement with Beacon Power Corporation to be effective 5/11/2015.

Filed Date: 4/28/15.

Accession Number: 20150428-5438.

Comments Due: 5 p.m. ET 5/19/15.

Docket Numbers: ER15-1578-000.

Applicants: New York State Electric & Gas Corporation.

Description: § 205(d) rate filing per 35.13(a)(2)(iii): Engineering and Procurement Agreement with Broome Energy Resources LLC to be effective 5/11/2015.

Filed Date: 4/28/15.

Accession Number: 20150428-5441.

Comments Due: 5 p.m. ET 5/19/15.

Docket Numbers: ER15-1579-000.

Applicants: 67RK 8me LLC.

Description: Initial rate filing per 35.12 67RK 8me LLC MBR Tariff to be effective 6/1/2015.

Filed Date: 4/28/15.

Accession Number: 20150428-5442.

Comments Due: 5 p.m. ET 5/19/15.

Docket Numbers: ER15-1580-000.

Applicants: New York State Electric & Gas Corporation.

Description: § 205(d) rate filing per 35.13(a)(2)(iii): Engineering and Procurement Agreement with Marsh Hill Energy LLC to be effective 5/11/2015.

Filed Date: 4/28/15.

Accession Number: 20150428-5445.

Comments Due: 5 p.m. ET 5/19/15.

Docket Numbers: ER15-1581-000.

Applicants: New York State Electric & Gas Corporation.

Description: § 205(d) rate filing per 35.13(a)(2)(iii): Engineering and Procurement Agreement with Stony Creek Energy LLC to be effective 5/11/2015.

Filed Date: 4/28/15.

Accession Number: 20150428-5448.

Comments Due: 5 p.m. ET 5/19/15.

Docket Numbers: ER15-1582-000.

Applicants: 65HK 8me LLC.

Description: Initial rate filing per 35.12 65HK 8me LLC MBR Tariff to be effective 6/1/2015.

Filed Date: 4/28/15.

Accession Number: 20150428-5453.

Comments Due: 5 p.m. ET 5/19/15.

Docket Numbers: ER15-1583-000.

Applicants: Dynegy Resources Management, LLC.

Description: § 205(d) rate filing per 35.13(a)(2)(iii): Notice of Succession and Revisions to Market-Based Rate Tariff to be effective 4/29/2015.

Filed Date: 4/28/15.

Accession Number: 20150428-5458.

Comments Due: 5 p.m. ET 5/19/15.

Take notice that the Commission received the following electric securities filings:

Docket Numbers: ES15-19-000.

Applicants: AEP West Virginia Transmission Company.

Description: Application pursuant to Section 204 of the Federal Power Act of AEP West Virginia Transmission Company, Inc. for authorization to issue securities.

Filed Date: 4/27/15.

Accession Number: 20150427-5561.

Comments Due: 5 p.m. ET 5/18/15.

Docket Numbers: ES15-20-000.

Applicants: Cross-Sound Cable Company, LLC.

Description: Application For Authorization Under Section 204 Of The Federal Power Act And Request For Waiver Of Commission Regulations And Confidential Treatment Of Transaction-Related Information of Cross-Sound Cable Company, LLC.

Filed Date: 4/28/15.

Accession Number: 20150428-5276.

Comments Due: 5 p.m. ET 5/19/15.

Take notice that the Commission received the following land acquisition reports:

Docket Numbers: LA15-1-000.

Applicants: MidAmerican Energy Company, Berkshire Hathaway Northeast/Central Parties.

Description: Quarterly Land Acquisition Report of the Berkshire Hathaway Northeast/Central Parties.

Filed Date: 4/27/15.

Accession Number: 20150427-5548.

Comments Due: 5 p.m. ET 5/18/15.

Docket Numbers: LA15-1-000.

Applicants: Beech Ridge Energy LLC, Beech Ridge Energy II LLC, Beech Ridge Energy Storage LLC, Bishop Hill Energy LLC, Bishop Hill Energy III LLC, California Ridge Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Grays Harbor Energy LLC, Hardee Power Partners Limited, Invenergy Cannon Falls LLC, Invenergy Nelson LLC, Invenergy TN LLC, Judith Gap Energy LLC, Prairie Breeze Wind Energy LLC, Prairie Breeze Wind Energy II LLC, Sheldon Energy LLC, Spindle Hill Energy LLC, Spring Canyon Energy LLC, Spring Canyon Energy II LLC, Spring Canyon Energy III LLC, Stony Creek Energy LLC, Vantage Wind Energy LLC, Wolverine Creek Energy LLC, Willow Creek Energy LLC.

Description: Quarterly Land Acquisition Report of Beech Ridge Energy LLC, et. al.

Filed Date: 4/28/15.

Accession Number: 20150428-5379.

Comments Due: 5 p.m. ET 5/19/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2015.
Nathaniel J. Davis, Sr.,
Deputy Secretary.

[FR Doc. 2015-11321 Filed 5-8-15; 8:45 am]

BILLING CODE 6717-01-P